DEPARTMENT OF TRANSPORTATION

Surface Transportation Board

[STB Finance Docket No. 34704]

Soo Line Railroad Company d/b/a Canadian Pacific Railway—Temporary Trackage Rights Exemption—Union Pacific Railroad Company

Union Pacific Railroad Company (UP) has agreed to grant temporary overhead trackage rights to Soo Line Railroad Company d/b/a Canadian Pacific Railway (CPR) over UP's rail line between UP milepost 83.0 and UP milepost 81.5 on the National Avenue Industrial Lead near Milwaukee, WI, a distance of approximately 1.5 miles.

The transaction was scheduled to be consummated on May 24, 2005, and the temporary trackage rights are scheduled to expire on or about October 13, 2005. The purpose of the temporary trackage rights is to allow CPR to access the Jones Island Yard while its main lines are out of service due to programmed track, roadbed, and structural maintenance.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34704, must be filed with the Surface Transportation Board, 1925 K Street, NW., Washington, DC 20423-0001. In addition, a copy of each pleading must be served on Thanh G. Bui, Leonard, Street and Deinard, 150 South Fifth Street, Suite 2300, Minneapolis, MN 55402.

Board decisions and notices are available on our Web site at “www.stb.dot.gov.”

Decided: May 24, 2005.
By the Board, Joseph H. Dettmar, Acting Director, Office of Proceedings.
Vernon A. Williams,
Secretary.

[FR Doc. 05-11063 Filed 6-2-05; 8:45 am]

BILLING CODE 4915-01-P